DEPARTMENT OF ENERGY

Federal Energy Regulatory Commission

[Docket No. CP00-444-000]

Midwestern Gas Transmission Company; Notice of Request Under Blanket Authorization

August 30, 2000.

Take notice that on August 21, 2000, Midwestern Gas Transmission Company (Midwestern), Post Office Box 2511, Houston, Texas 77251, filed in Docket No. CP00-444-000 a request pursuant to Sections 157.205, 157.208(b)(2), and 157.211(b)(2) of the Commission's Regulations (18 CFR Sections 157.205, 157.208 and 157.211) under the Natural Gas Act (NGA) for authorization to construct, own and operate a lateral line and delivery point to facilitate deliveries of natural gas to PSI Energy, Inc.'s (PSI) Wabash Power Plant (the Cinergy Power Plant) in Vigo County, Indiana under Midwestern's blanket certificate issued in Docket No. CP82-414-000, pursuant to Section 7 of the NGA, all as more fully set forth in the application which is on file with the Commission and open to public inspection. This filing may be viewed on the web at http://www.ferc.fed.us/online/htm (call 202-208-2222 for assistance).

Midwestern requests authorization to construct a delivery point and a lateral line consisting of 9.2 miles of 20-inch diameter pipe originating from a side valve designated as 2114B-101 at Midwestern's Compressor Station 2115 in Edgar County, Illinois and terminating at the Cinergy Power Plant located in Vigo County, Indiana. Midwestern states that the delivery point facilities will include a 2-inch turbine meter, a 10-inch ultrasonic meter, electronic gas measurement equipment, flow control equipment and a chromatograph. Midwestern states that the meter station will be located entirely within PSI's plant site. It is also stated that Indiana Gas and Electric Company currently serves the Cinergy plant. Midwestern estimates the cost of the facilities at $8,050,000.00 with a reimbursement of $6,250,000 from PSI.

Any questions regarding the application may be directed to Wendell B. Hunt, Attorney (713) 420-5628 or Thomas G. Joyce, Certificates Manager (713) 420-2459.

Any person or the Commission's staff may, within 45 days after the issuance of the instant notice by the Commission, file pursuant to Rule 214 of the Commission's Procedural Rules (18 CFR 385.214) a motion to intervene or notice of intervention and, pursuant to Section 157.205 of the Commission's regulations under the NGA (18 CFR 157.205), a protest to the request. If no protest if filed within the time allowed therefor, the proposed activity shall be deemed to be authorized effective the day after the time allowed for filing a protest. If a protest is filed and not withdrawn within 30 days after the time allowed for filing a protest, the instant request shall be treated as an application for authorization pursuant to Section 7 of the NGA.

Linwood A. Watson, Jr.,
Acting Secretary.

[FR Doc. 00-22710 Filed 9-5-00; 8:45 am]

BILLING CODE 6717-01-M